DEPARTMENT OF COMMERCE

National Oceanic and Atmospheric Administration

[RTID 0648-XC356]

Fisheries of the South Atlantic; National Marine Fisheries Service—Public Meetings

AGENCY: National Marine Fisheries Service (NMFS), National Oceanic and Atmospheric Administration (NOAA), Commerce.

ACTION: Notice; public meetings.

SUMMARY: The National Marine Fisheries Service will hold a series of in-person Dolphin (i.e., Dolphinfish or Mahi mahi) Management Strategy Stakeholder workshops on October 4, October 5, and October 6, 2022.

DATES: The workshop will be held on Tuesday, October 4, 2022, from 5:30 p.m. until 8:30 p.m. EDT, on Wednesday, October 5, 2022, from 5:30 p.m. until 8:30 p.m. EDT, and on Thursday, October 6, 2022, from 5:30 p.m. until 8:30 p.m. EDT.

ADDRESSES: Meeting address: The meeting is open to members of the public. The workshop on October 4 will be held at the West Palm Beach Fishing Club, 201 5th Street, West Palm Beach, FL 33401. The workshop on October 5 will be held at the History Fort Lauderdale Museum, 231 SW 2nd Avenue, Fort Lauderdale, FL 33301. The workshop on October 6 will be held at the Florida Keys History and Discovery Center, 82100 Overseas Highway, Islamorada, FL 33036. Those interested in participating should contact Cassidy Peterson (see FOR FURTHER INFORMATION CONTACT).

FOR FURTHER INFORMATION CONTACT: Cassidy Peterson, Management Strategy Evaluation Specialist, NMFS Southeast Fisheries Science Center, phone (910) 708-2686; email: Cassidy.Peterson@noaa.gov.

SUPPLEMENTARY INFORMATION: In collaboration with the South Atlantic Fishery Management Council, NMFS is embarking on a Management Strategy Evaluation (MSE) to guide dolphin (i.e., dolphinfish or mahi mahi) management in the jurisdiction. The MSE will be used to develop a management procedure that best achieves the suite of management objectives for the U.S. Atlantic dolphin fishery. Stakeholder input is necessary for characterizing the management objectives of the fishery and stock, identifying any uncertainties in the system that should be built into the MSE analysis, and providing guidance on the acceptability of the proposed management procedures.

Agenda items for the meeting include: developing an understanding of management procedures and management strategy evaluation, developing conceptual management objectives, and clarifying uncertainties that should be addressed within the framework.

Special Accommodations

These meetings are physically accessible to people with disabilities. Requests for auxiliary aids should be directed to Cassidy Peterson (see FOR FURTHER INFORMATION CONTACT) 5 days prior to the meeting.

Note: The times and sequence specified in this agenda are subject to change.

Authority: 16 U.S.C. 1801 et seq.

Dated: September 8, 2022.
Kelly Denit,
Director, Office of Sustainable Fisheries, National Marine Fisheries Service.

[FR Doc. 2022-19795 Filed 9-13-22; 8:45 am]

BILLING CODE 3510-22-P